FEDERAL COMMUNICATIONS COMMISSION

[DA 03-3310]

Wireless Telecommunications Bureau Confirms Certain 220 MHz Phase I Licenses Cancelled as a Result of Spectrum Audit

AGENCY: Federal Communications Commission.

ACTION: Notice.

SUMMARY: As a result of certain licensees' failure to respond to the Wireless Telecommunications Bureau (Bureau) audit inquiries, the Bureau announces that certain licenses have been presumed non-operational for one year or more and therefore have cancelled automatically. Action has been taken in the Universal Licensing System to terminate the licenses that are set forth in Attachment A of the Public Notice.

FOR FURTHER INFORMATION CONTACT: Denise D. Walter, Commercial Wireless Division, at 202-418-0620.

SUPPLEMENTARY INFORMATION: This is a summary of the Commission's Public Notice, DA 03-3310, released on October 22, 2003. The full text of the Public Notice is available for inspection and copying during normal business hours in the Federal Communications Commission Reference Center, 445 12th Street, SW., Washington, DC 20554. The complete text may be purchased from the Federal Communications Commission's copy contractor, Qualex International, 445 12th Street, SW., Room CY-B402, Washington, DC 20554. The full text may also be downloaded at http://wireless.fcc.gov. Alternative formats are available to persons with disabilities by contacting Brian Millin at (202) 418-7426 or TTY (202) 418-7365 or at bmillin@fcc.gov.

1. On May 14, 2003, 452 letters were mailed to all licensees operating in the QT, QD, and QO radio services inquiring into the operational status of each license held. Each licensee was required to respond and certify, by June 13, 2003, that its authorized station(s) had not permanently discontinued service (i.e., discontinued operations for one year or more). The audit letter, mailed to each licensee at its address of record, included the call signs of the licensee's authorizations involved in this audit. In addition, the Bureau released an initial Public Notice, 68 FR 19822, April 22, 2003 announcing the audit, as well as several follow-up Public Notices, 68 FR 31704, May 28, 2003 and 68 FR 41133, July 10, 2003 explaining that the audit was underway and setting forth the audit process.

2. In the audit letters that were mailed to the individual licensees, as well as in the Bureau's Public Notices, the Bureau expressly indicated that a response to the audit letter was mandatory. The Bureau also indicated that failure to provide a timely response might result in the Commission's presumption that station at issue was non-operational for one year or more and therefore automatically cancelled. The Bureau's second audit letter explicitly stated that failure to timely respond to the audit letter would result in the loss of the licensee's authority to operate on the station(s) at issue in the audit letter. The Bureau has received no response to either of the audit letters for the station licenses that are set forth in Attachment A of the Public Notice. The Bureau therefore presumes that the stations identified in Attachment A have been non-operational for a period of one year or more, and confirms that these station licenses have cancelled automatically pursuant to 47 CFR 90.157 of the Commission's rules. Action has been taken in the Universal Licensing System to terminate these licenses.

Federal Communications Commission.
Roger Noel,
Deputy Division Chief.

[FR Doc. 03-28582 Filed 11-14-03; 8:45 am]

BILLING CODE 6712-01-P